DEPARTMENT OF DEFENSE

Department of the Army, Corps of Engineers

Intent To Prepare a Draft Environmental Impact Statement (DEIS) for the Proposed Point Thomson Project To Develop the Thomson Sand Reservoir by Extracting Gas Condensate and Oil for the Purpose of Commercial Production as Proposed by the Exxon Mobil Corporation (ExxonMobil)

AGENCY: U.S. Army Corps of Engineers, DoD.

ACTION: Notice of Intent.

SUMMARY: The Alaska District, U.S. Army Corps of Engineers (Corps) intends to prepare a Draft Environmental Impact Statement (DEIS) to identify and analyze the potential impacts associated with the development of the Thomson Sand Reservoir, including construction and operation of the proposed project. The Corps will be evaluating a permit application for work under Section 10 of the Rivers and Harbors Act and Section 404 of the Clean Water Act. The Environmental Impact Statement (EIS) will be used as a basis for the permit decision and to ensure compliance with the National Environmental Policy Act.

FOR FURTHER INFORMATION CONTACT: Questions about the proposed action and the DEIS can be answered by: Ms. Julie McKim, Regulatory Division, telephone: (907) 753-2773, toll free in AK: (800) 478-2712, Fax: (907) 753-5567, e-mail: julie.w.mckim@usace.army.mil, mail: U.S. Army Corps of Engineers, CEPOA-RD, Post Office Box 6898, Elmendorf AFB, Alaska 99506-0898. Additional information may be obtained at http://www.pointthomsonprojecteis.com.

SUPPLEMENTARY INFORMATION: 1. Background Information: The Environmental Protection Agency (EPA) previously issued a notice of intent to prepare a DEIS on April 19, 2002 for a similar proposal to develop oil and gas reserves in or near the Point Thomson Unit, potentially including designation of ocean dredged material disposal site(s). The EPA was the lead Federal Agency because the proposed project would have required authorization under Section 102 of the Marine Protection, Research, and Sanctuaries Act (MPRSA), with the Corps as a Cooperating Agency. Per the applicant's request, the agreement to pursue the EIS was terminated between the EPA and the applicant, Exxon Mobil Corporation (ExxonMobil). In October 2009, ExxonMobil submitted a new proposed project that would not be subject to Section 102 of the MPRSA but would require authorization from the Corps under Section 10 of the Rivers Harbors Act of 1899 and Section 404 of the Clean Water Act. Therefore, the Corps has been designated the lead Federal agency for the revised proposed project.

2. The permit applicant, ExxonMobil, is proposing to develop the Thomson Sand Reservoir located approximately 60 miles east of Deadhorse on the Beaufort Sea coast, in the State of Alaska. A minimum of five wells would be drilled from three pads: a Central Pad, and East and West Pads located to access the eastern and western extent of the reservoir. The applicant would produce gas from the reservoir to recover liquid condensate from natural gas and re-inject the residual gas back into the reservoir, conserving it for future use. Hydrocarbon liquid condenses from the produced natural gas when pressure and temperature are lowered below original reservoir conditions during production at surface processing facilities. ExxonMobil proposes to develop offshore portions of the reservoir using long reach directional drilling techniques from the onshore pads. The produced hydrocarbon liquids (condensate and oil) would be shipped through a new 22-mile long, elevated pipeline from Point Thomson to the existing Badami Development. This pipeline would then tie into the existing Badami common carrier pipeline, which connects with the existing common carrier oil sales pipeline system to the Trans-Alaska Pipeline System Pump Station No. 1. The Central Pad would also include infrastructure to support operations and drilling, such as temporary construction and permanent camps; offices, warehouses, and shops; electric power generating and distribution facilities; diesel fuel, water, and chemical storage; treatment systems for drinking water and wastewater; a grind and inject module; waste management facilities; and communications facilities. Other project facilities, in addition to the drilling pads, would include a gravel airstrip, a bulkhead and dolphins, in-field gravel roads, ice roads, in-field pipelines, and a gravel mine. Dredging may be required at the bulkhead.

3. Alternatives: Reasonable alternatives will be identified and evaluated throughout the Scoping and EIS process.

4. Scoping: The scoping period will begin on January 11, 2010 and end on February 25, 2010.

a. The Corps invites full public participation to promote open communication on the issues surrounding the proposal. All Federal, State, Tribal, local agencies, and other persons or organizations that have an interest are urged to participate in the NEPA scoping process. Meetings will be held to receive public input on the proposed purpose and need of the project, to identify significant issues and to discuss proposed alternatives. The scoping process will help to further explain the purpose and need plus the alternatives to be reviewed in the DEIS.

b. The DEIS will analyze the potential social, economic, physical, and biological impacts to the affected areas. The following major issues will be analyzed in depth in the DEIS: threatened and endangered species including critical habitat; hydrology and wetlands; fish and wildlife; the construction and operation of the facilities and their effect upon the surrounding communities; cultural resources; socioeconomics; alternatives; secondary and cumulative impacts.

c. The Corps will serve as the lead Federal agency in the preparation of the DEIS. The Environmental Protection Agency, United States Fish and Wildlife Service, and State of Alaska Department of Natural Resources are participating as cooperating agencies.

5. The Corps expects to hold scoping meetings in Anchorage, Barrow, Fairbanks, Kaktovik, and Nuiqsut. Further information about these meetings will be published locally, on the project Web site http://www.pointthomsonprojecteis.com, or can be obtained by contacting the Corps as described above. A description of the proposed project will be posted on the project Web site prior to these meetings to help the public focus their scoping comments.

6. It is anticipated that the DEIS will be available November 2010 for public review.

Dated: November 23, 2009.
Approved by:
Julie W. McKim,
Project Manager, Alaska District, U.S. Army Corps of Engineers.

[FR Doc. E9-28864 Filed 12-3-09; 8:45 am]

BILLING CODE 3720-58-P